DEPARTMENT OF THE INTERIOR

Office of the Assistant Secretary—Water and Science; Central Utah Project Completion Act; Notice of Intent To Prepare an Environmental Assessment for the Conversion of a Portion of Strawberry Valley Project Water From Irrigation to Municipal and Industrial Use

AGENCY: Office of the Assistant Secretary—Water and Science, Department of the Interior.

ACTION: Notice of intent to prepare an Environmental Assessment for the conversion of a portion of Strawberry Valley Project (SVP) water from irrigation to other beneficial uses including municipal and industrial (M&I) use.

SUMMARY: Pursuant to the National Environmental Policy Act of 1969, the Department of the Interior, Central Utah Project Completion Act Office will prepare an Environmental Assessment on the conversion of SVP water from agricultural to municipal and industrial use.

The SVP, authorized December 15, 1905, is one of the earliest Reclamation Projects. The SVP water from the Colorado River Basin is stored in the enlarged Strawberry Reservoir. The SVP water is then conveyed through the Diamond Fork System into the Great Basin where it is delivered through natural stream courses to the Spanish Fork River diversion structure and into the Strawberry Power Canal. The SVP service area is located in south Utah County, Utah. The Strawberry Water Users Association is responsible for the operation and maintenance of the SVP and contractually uses Central Utah Project (CUP) facilities to store and convey SVP water.

Suburban development in the SVP service area has resulted in agricultural land being taken out of production, annexed into the cities, and developed into residential areas. Under the authority of the Water for Miscellaneous Purposes Act of 1920 (43 U.S.C. 521), the Secretary of the Interior has authority to approve converting a portion of the SVP water from irrigation to M&I use. This conversion will: (1) authorize the conversion of SVP water from irrigation to M&I use; (2) ensure the orderly marketing of CUP and SVP M&I water; (3) provide an adequate water supply to the cities; (4) generate revenue to fund the rehabilitation of SVP facilities; and (5) eliminate unauthorized use of SVP water within the service area. Of the total SVP annual average water supply of about 71,000 acre-feet, approximately 10,200 acre-feet has already been converted and an additional 1,800 acre-feet will be converted from irrigation to M&I use in the foreseeable future with the opportunity to gradually convert additional amounts as growth continues in the area.

The Environmental Assessment will identify potential effects of the proposed action and determine whether those effects are significant. Alternatives identified at this time include the proposed action and the no action alternatives. Issues to be analyzed include impacts on wildlife, cultural resources, special status plants and animals, and water resources.

DATES: Public scoping comments relating to issues and potential additional alternatives will be accepted for 30 days following the publication of this notice.

FOR FURTHER INFORMATION: Scoping comments should be sent to: Program Coordinator, CUP Completion Act Office, Department of the Interior, 302 East 1860 South, Provo UT 84606-6154.

Comments, including names and street addresses of respondents will be available for public review at the CUP Completion Act Office and will be subject to disclosure under the Freedom of Information Act (FOIA). They may be published as part of the Environmental Assessment and other related documents.

Dated: February 1, 2000.
Ronald Johnston,
CUP Program Director, Department of the Interior.

[FR Doc. 00-2640 Filed 2-4-00; 8:45 am]

BILLING CODE 4310-RK-U